FEDERAL MARITIME COMMISSION

Notice of Agreement Filed; Correction

AGENCY: Federal Maritime Commission.

Citation of Previous Notice of Agreements Filed: 76 FR 30360, May 25, 2011.

Previous Notice of Agreements: May 20, 2011.

Correction to the Notice of Agreements Filed: Amendment No. 007 for Agreement 011707 was erroneously published. The correct notice should read as follows:

Agreement No.: 011707-007.

Title: Gulf/South America Discussion Agreement.

Parties: BBC Chartering & Logistic GMBH & Co. KG; Industrial Maritime Carriers, LLC; Seaboard Marine, Ltd.; and West Coast Industrial Express, LLC.

Filing Party: Wade S. Hooker, Esq.; 211 Central Park W; New York, NY 10024.

Synopsis: The amendment deletes Associated Transport Line as a party to the agreement.

Contact Person for More Information: Karen V. Gregory, Secretary, (202) 523-5725.

Rachel E. Dickon,
Assistant Secretary.

[FR Doc. 2011-13730 Filed 6-1-11; 8:45 am]

BILLING CODE 6730-01-P